OFFICE OF THE UNITED STATES TRADE REPRESENTATIVE

Notice of Continuation and Request for Nominations for the Advisory Committee for Trade Policy and Negotiations

AGENCY: Office of the United States Trade Representative.

ACTION: Notice of renewal of the charter and request for nominations.

SUMMARY: The Office of the United States Trade Representative (USTR), pursuant to section 4(d) of Executive Order 11846 of March 27, 1975, section 135(b) of the Trade Act of 1974 (19 U.S.C. 2155(c)(1)) as amended, and the Federal Advisory Committee Act (5 U.S.C. App. II), expects to establish a new four-year charter term and is accepting applications from qualified individuals interested in serving as a member of the Advisory Committee for Trade Policy and Negotiations (ACTPN). The ACTPN is a trade advisory committee that provides general policy advice and guidance to the U.S. Trade Representative on trade policy.

DATES: In order to receive full consideration, applications should be received no later than three weeks from this filing. Nominations will be accepted after that date on a rolling basis as vacancies arise until the expiration of the charter term, which is four years from the date of filing.

ADDRESSES: Submissions should be sent as one PDF document to the Office of the U.S. Trade Representative, Office of Intergovernmental Affairs and Public Engagement at MBX.USTR.IAPE@USTR.eop.gov.

FOR FURTHER INFORMATION CONTACT: Jennifer Bang, Assistant U.S. Trade Representative for Intergovernmental Affairs and Public Engagement, Office of the U.S. Trade Representative, at Jennifer.D.Bang@ustr.eop.gov; and Marshall Stallings, Director for Intergovernmental Affairs and Public Engagement, Office of the U.S. Trade Representative, at Ethan.M.Stallings@ustr.eop.gov.

SUPPLEMENTARY INFORMATION:

1. Background

Sections 135(b)(1) and 135(c)(1) of the Trade Act of 1974, as amended (19 U.S.C. 2155(b)(1) and (c)(1)), provide that the President shall establish an Advisory Committee for Trade Policy and Negotiations, and authorize the President to establish individual general trade policy advisory committees for industry, labor, agriculture, services, investment, defense, small business, and other interests, as appropriate, to provide general policy advice. The President delegated the functions under section 135 to the U.S. Trade Representative in Executive Order 11846, section 4(d), issued on March 27, 1975. Pursuant to these authorities, the United States Trade Representative intends to establish a new four-year charter term for the ACTPN.

The ACTPN is a statutory non-discretionary trade advisory committee established to provide general advice to the U.S. Trade Representative on trade policy. More specifically, the ACTPN provides general policy advice on issues including: (1) negotiating objectives and bargaining positions before entering into trade agreements; (2) the impact of the implementation of trade agreements; (3) matters concerning the operation of any trade agreement once entered into; and (4) other matters arising in connection with the development, implementation, and administration of the trade policy of the United States.

The ACTPN meets as needed, at the call of the U.S. Trade Representative or their designee, or two-thirds of the ACTPN members, depending on various factors such as the level of activity of trade negotiations and the needs of the U.S. Trade Representative.

II. Membership

The ACTPN is composed of not more than 45 members who have expertise in general trade, investment, and development issues including representatives of labor, industry, agriculture, small business, service industries, retailers, nongovernmental organizations, and non-federal governments. ACTPN membership will be broadly representative of the key sectors and groups of the economy affected by trade.

The United States Trade Representative recommends individuals to serve on the ACTPN. Members are appointed by and serve at the discretion of the President, for a term that will not exceed the duration of this charter. Individuals can be reappointed for any number of terms.

The U.S. Trade Representative strongly encourages diverse backgrounds and perspectives and makes recommendations for members to serve on the ACTPN without regard to political affiliation and in accordance with equal opportunity practices. USTR strives to ensure balance in terms of sectors, expertise, and other factors relevant to USTR's needs.

ACTPN members serve without either compensation or reimbursement of expenses. Members are responsible for all expenses they incur to attend meetings or otherwise participate in ACTPN activities.

ACTPN members are expected to represent their sponsoring U.S. entity's interests on trade, and thus USTR's foremost consideration for applicants is their ability to carry out the goals of section 135 of the Trade Act of 1974, as amended. Other criteria include the applicant's knowledge of and expertise in international trade issues as relevant to the work of the ACTPN and USTR. USTR anticipates that almost all ACTPN members will serve in a representative capacity with a very limited number serving in an individual capacity as a subject matter expert. These members, known as special government employees or SGEs, are subject to conflict-of-interest rules and may have to complete a financial disclosure report.

III. Request for Nominations

USTR is soliciting nominations for membership of the ACTPN. To apply for membership, an applicant must meet the following eligibility criteria:

1. The applicant must be a U.S. citizen.

2. The applicant cannot be a full-time employee of a U.S. governmental agency.

3. If serving in an individual capacity, the applicant cannot be a federally registered lobbyist.

4. The applicant cannot be registered with the U.S. Department of Justice under the Foreign Agents Registration Act.

5. For representative members, who will comprise the overwhelming majority of the ACTPN, the applicant must represent a U.S. organization whose members (or funders) have a demonstrated interest in issues relevant to U.S. trade policy.

6. For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

7. For members who will serve in an individual capacity, the applicant must possess subject matter expertise on trade policy.

In order to be considered for ACTPN membership, interested persons should submit the following in one PDF document to MBX.USTR.IAPE@USTR.eop.gov.

• Name, title, affiliation, and contact information of the individual requesting consideration.

• A sponsor letter on the organization's letterhead containing a brief description of the manner in which international trade affects the organization and why USTR should consider the applicant for membership.

• The applicant's personal resume or comprehensive biography.

• An affirmative statement that the applicant and the organization he or she represents meet all eligibility criteria.

USTR will consider applicants who meet all the eligibility criteria in accordance with equal opportunity practices, based on the following factors:

• Ability to represent the sponsoring U.S. entity's or U.S. organization's and its subsector's interests on trade matters.

• Knowledge of and experience in trade matters relevant to the work of the ACTPN and USTR.

• How they will contribute to America First trade policies that create new opportunities and higher living standards for families, farmers, manufacturers, workers, and businesses.

Jennifer Bang,
Assistant U.S. Trade Representative for Intergovernmental Affairs and Public Engagement Office of the United States Trade Representative.

[FR Doc. 2026-04242 Filed 3-3-26; 8:45 am]

BILLING CODE 3390-F4-P